DEPARTMENT OF AGRICULTURE

Rural Housing Service

Notice for Requests for Proposals for Guaranteed Loans Under the Section 538 Guaranteed Rural Rental Housing Program (GRRHP) for Fiscal Year 2003; Correction

AGENCY: Rural Housing Service, USDA.

ACTION: Notice; correction.

SUMMARY: The Rural Housing Service (RHS) is correcting a notice published December 27, 2002 (67 FR 79038-79042). This action is taken to add a priority criteria for the selection of projects requesting interest credit assistance and increase the threshold score for the interest credit award.

Accordingly, the notice published December 27, 2002 (67 FR 79038-79042), is corrected as follows:

On page 79039 in the second column, fifth full paragraph, revise the number “55” to read “65”.

On page 79041 in the first column, second paragraph, revise the word “six” to read “seven”.

On page 79041 in the third column after the second full paragraph, add the following:

“Priority 7—RHS will award points for interest rates charged above the applicable federal rate at the time of loan closing as follows:

Interest rate | Points
More than 250 basis points | −20
200 to 250 basis points, inclusive | 5
100 to 199 basis points, inclusive | 10
0 to 99 basis points, inclusive | 15
| .”

Dated: January 16, 2003.
Arthur A. Garcia,
Administrator, Rural Housing Service.

[FR Doc. 03-1833 Filed 1-27-03; 8:45 am]

BILLING CODE 3410-XV-P